DEPARTMENT OF THE INTERIOR

Fish and Wildlife Service

Sporting Conservation Council

AGENCY: Fish and Wildlife Service, Interior.

ACTION: Notice of teleconference.

SUMMARY: This notice announces a public teleconference of the Sporting Conservation Council (Council).

DATES: We will hold the teleconference on Tuesday, January 29, 2008, at 1-3:30 p.m. (Eastern time). If you wish to listen to the teleconference proceedings, submit written material for the Council to consider, or give a 2-minute presentation during the teleconference, notify Phyllis Seitts by Monday, January 21, 2008. If you wish to submit a written statement for Council consideration during the teleconference, it must be received no later than January 24, 2008. See instructions under SUPPLEMENTARY INFORMATION.

FOR FURTHER INFORMATION CONTACT: Phyllis T. Seitts, 9828 North 31st Avenue, Phoenix, AZ 85051-2517; 602-906-5603 (phone); or Twinkle_Thompson-Seitts@blm.gov (e-mail).

SUPPLEMENTARY INFORMATION: The Secretary of the Interior established the Council in February 2006 (71 FR 11220, March 6, 2006). The Council's mission is to provide advice and guidance to the Federal Government through the Department of the Interior on how to increase public awareness of: (1) The importance of wildlife resources, (2) the social and economic benefits of recreational hunting, and (3) wildlife conservation efforts that benefit recreational hunting and wildlife resources.

The Secretary of the Interior and the Secretary of Agriculture signed an amended charter for the Council in June 2006 and July 2006, respectively. The revised charter states that the Council will provide advice and guidance to the Federal Government through the Department of the Interior and the Department of Agriculture.

The Council will convene to receive updates on responses from Federal agencies to recommendations submitted by the Council and implementation of the August 16, 2007, Executive Order on Facilitation of Hunting Heritage and Wildlife Conservation.

Procedures for Public Input

Format Requirement for Oral and Written Commenters

Whether you wish to comment orally or in written form, you must provide written copies of your comments. All written statements must be supplied to the Council's Designated Federal Officer in both of the following formats:

One hard copy with original signature, and

One electronic copy via e-mail (acceptable file format: MS Word, MS Powerpoint, or WordPerfect).

Giving a 2-Minute Oral Presentation

Individuals or groups may request to give an oral presentation during the Council teleconference. Oral presentations will be limited to 2 minutes per speaker, with no more than half an hour total for all speakers. Interested parties must contact Phyllis Seitts, Council Designated Federal Officer, in writing (preferably via e-mail; see FOR FURTHER INFORMATION CONTACT), by Monday, January 21, 2008, to be placed on the public speaker list for this teleconference. In addition, if you are selected to make a 2-minute presentation, you must provide hard and electronic copies of your presentation to the Council Designated Federal Officer by Thursday, January 24, 2008. Additional live questions from the public will not be considered during the teleconference.

Submitting Written Information for the Council To Consider

Speakers who wish to expand upon their oral statements or those who had wished to speak but could not be accommodated on the agenda are invited to submit written statements to the Council. Interested members of the public may submit relevant written information for the Council to consider during the public teleconference. We must receive all written statements by Thursday, January 24, 2008, so that we can make the information available to the Council for their consideration prior to the teleconference.

Dated: December 31, 2007.
Phyllis T. Seitts,
Designated Federal Officer, Sporting Conservation Council.

[FR Doc. 08-110 Filed 1-14-08; 8:45 am]

BILLING CODE 4310-55-P